DEPARTMENT OF HOMELAND SECURITY

Office of Science and Technology; Announcement of Seminars

AGENCY: Office of Science and Technology, Department of Homeland Security.

ACTION: Announcement of seminars.

SUMMARY: The Office of Science and Technology, Department of Homeland Security, will be hosting a series of seminars in key cities nationwide to educate the public about the application process for the Support Anti-Terrorism by Fostering Effective Technologies Act of 2002 (SAFETY Act), Sections 861-865, Public Law 107-296.

DATES: See Supplementary Information section for seminar addresses.

ADDRESSES: See Supplementary Information section for seminar addresses.

FOR FURTHER INFORMATION CONTACT: For information concerning this notice or the seminars, write or call Ms. Wendy Howe, Program Manager, SAFETY Act Implementation, Department of Homeland Security, 7th and D Streets, SW., Washington, DC 20598, wendy.howe@dhs.gov, or at 202-772-9887.

SUPPLEMENTARY INFORMATION:

Registration

All seminars are open to the public, but registration is required. For more information or to register, please call 301-975-8933 or visit http://www.dhs.gov and click on the “Threats & Protection” link at the top of the page.

Seminar Dates and Locations

The seminars will be held at the following dates and locations:

September 22, 2003, 9 a.m. to 4 p.m.—Dallas Marriott Quorum Hotel, 14901 Dallas Parkway, Dallas, TX 75254

September 23, 2003, 8 a.m. to 2 p.m.—Renaissance Los Angeles, 9620 Airport Boulevard, Los Angeles, CA 90045

September 24, 2003, 9 a.m. to 4 p.m.—Marriott Marquis Hotel, 265 Peachtree Center Avenue, Atlanta, GA, 30303

September 26, 2003, 9 a.m. to 4 p.m.—Chicago Marriott O'Hare Hotel, 8535 West Higgins Road, Chicago, IL 60631

Information on Services for Individuals With Disabilities

For information on facilities or services for individuals with disabilities or to request special assistance at the seminars, contact the registration number provided above.

Media Inquiries

Members of the media who would like to cover this event must present a valid press credential. For further information, contact Ms. Michelle Petrovich, Director of Communications, Office of Science and Technology, Department of Homeland Security, 7th and D Streets, SW., Washington, DC 20598, michelle.petrovich@dhs.gov, at 202-772-9886.

(Authority: Sec. 862(c), Pub. L. 107-296; Department of Homeland Security Management Directive 0490.1)
Dated: September 9, 2003.
Dr. Holly Dockery,
Director, Safety Act Implementation, Science and Technology Division, Department of Homeland Security.

[FR Doc. 03-23291 Filed 9-9-03; 3:22 pm]

BILLING CODE 4410-10-P